DEPARTMENT OF HOMELAND SECURITY

Coast Guard

33 CFR Part 117

[Docket No. USCG-2016-1026]

Drawbridge Operation Regulation; Perquimans River, Hertford, NC

AGENCY: Coast Guard, DHS.

ACTION: Notice of deviation from drawbridge regulation.

SUMMARY: The Coast Guard has issued a temporary deviation from the operating schedule that governs the US17 (Perquimans) Bridge across the Perquimans River, mile 12.0, at Hertford, NC. This deviation is necessary to perform a bridge deck replacement project. This deviation allows the bridge to remain in the closed-to-navigation position.

DATES: This deviation is effective without actual notice from February 7, 2017 through 6 p.m. on March 17, 2017. For the purposes of enforcement, actual notice will be used from January 25, 2017 at 3:25 p.m., until February 7, 2017.

ADDRESSES: The docket for this deviation, [USCG-2016-1026] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: The North Carolina Department of Transportation, that owns and operates the US17 (Perquimans) Bridge across the Perquimans River, mile 12.0, at Herford, NC, has requested a temporary deviation from the current operating regulations to perform a bridge deck replacement project. The bridge will be unable to balance during the bridge deck replacement project. As balance is required for safe operation of the moveable span, the bridge will not be capable of safe operation for the duration of the bridge deck replacement project. The bridge is a bascule draw bridge and has a vertical clearance in the closed position of 7 feet above mean high water.

The current operating schedule is set out in 33 CFR 117.835. Under this temporary deviation, the bridge will remain in the closed-to-navigation position from 8 a.m. on January 25, 2017, to 6 p.m. on March 17, 2017.

The Perquimans River is used by a variety of vessels including small public vessels, small commercial vessels, and recreational vessels. The Coast Guard has carefully coordinated the restrictions with waterway users.

Vessels able to safely pass through the bridge in the closed position may do so, after receiving confirmation from the bridge tender that it is safe to transit through the bridge. The bridge will not be able to open for emergencies and there is no immediate alternate route for vessels to pass. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: January 25, 2017.
Hal R. Pitts,
Bridge Program Manager, Fifth Coast Guard District.

[FR Doc. 2017-02457 Filed 2-6-17; 8:45 am]

BILLING CODE 9110-04-P